DEPARTMENT OF THE TREASURY

Call for Nominations for Treasury Secretary Appointments to Tribal Advisory Committee

AGENCY: Departmental Offices, Treasury.

ACTION: Notice.

SUMMARY: The Treasury Department (“Treasury”) seeks nominations for appointments by the Secretary of the Treasury (“Secretary”) to the Treasury Tribal Advisory Committee (TTAC), established pursuant to the Tribal General Welfare Exclusion Act of 2014 (Pub. L. 113-168, or TGWEA). The TTAC will advise the Secretary on matters related to the taxation of Indians, training and education for Internal Revenue Service (“Service”) field agents who administer and enforce internal revenue laws with respect to Indian tribes; and training and technical assistance for tribal financial officers. Nominations should describe the candidate's qualifications for TTAC membership. Submittal of an application and resume is required.

This request for nominations, particularly from tribal leaders, is in furtherance of the objectives of Executive Order 13175 under which Treasury consults with tribal officials in the development of federal policies that have tribal implications, to reinforce the United States government-to-government relationships with Indian tribes and to reduce the imposition of unfunded mandates upon Indian tribes.

DATES: Please submit the names and qualifications of individuals you would recommend for appointment to the TTAC by the Secretary, applications for appointment by the Secretary to the TTAC or comments on this matter, before April 28, 2015.

ADDRESSES: Please send recommendations and applications to tribal.consult@treasury.gov, with a subject line “Treasury Tribal Advisory Committee member recommendation or application.” We will accept applications for Secretarial appointments until April 28, 2015. Self-nominations are welcome.

FOR FURTHER INFORMATION CONTACT: Elaine Buckberg, Deputy Assistant Secretary for Policy Coordination and Point of Contact for Tribal Consultation, Department of the Treasury, at tribal.consult@treasury.gov or 202-622-2200. Please use the subject line “Treasury Tribal Advisory Committee” in email correspondence.

SUPPLEMENTARY INFORMATION:

Introduction and Background

I. Description and Mandate of the TTAC

The TGWEA, signed into law by President Obama on September 26, 2014, requires that Treasury establish the TTAC. Committee members will advise the Secretary on matters related to the taxation of Indians, the training of Service field agents who administer and enforce internal revenue laws with respect to Indian tribes, and the provision of training and technical assistance to Native American financial officers. The Secretary will appoint three Committee members; the Chairs and Ranking Members of the Senate Finance Committee and House of Representative Ways and Means Committee will each appoint one member. The TTAC Charter has been filed; a copy of the Charter is posted at http://www.treasury.gov/resource-center/economic-policy/tribal-policy/Documents/TTAC%20Charter%202-10-15.pdf.

Recommendations for the four Congressional appointments to the TTAC should be directed to the offices of the four Members of Congress specified in the law, whose roles are identified above. This notice requests nominations for the three Secretarial appointments.

The TWGEA builds on prior guidance that Treasury and the Service issued in direct response to requests from a number of tribal leaders, including representatives of the National Congress of American Indians (NCAI), Native American Finance Officers' Association (NAFOA) and United Southern and Eastern Tribes (USET). Beginning in 2011, Treasury and the Service met extensively with tribal leaders, developed draft legal guidance, and requested comments. In IRS Notice 2012-75, draft guidance was issued “with reliance” to provide immediate certainty on conditions under which tribal government benefits are not subject to the Federal personal income tax. Final IRS guidance, issued last June as Rev. Proc. 2014-35, clarified these matters further. Building on this guidance, we anticipate that members of the TTAC will advise the Secretary on related tax issues, and on the training and education of Service field agents and tribal financial officers, as indicated in the TGWEA.

II. Application for TTAC Appointment

Treasury seeks applications from individuals with experience and qualifications in the subject areas identified by the TWGEA: Indian taxation, Service field agent training, and Native American financial officer training and technical assistance. Initial TTAC members appointed by the Secretary will serve as volunteers for terms of two years. TTAC member travel expenses will be reimbursed within government guidelines. No person who is a federally-registered lobbyist may serve on the TTAC. All potential candidates must pass a Service (IRS) tax compliance check and a Federal Bureau of Investigation (FBI) background investigation.

To apply, an applicant must submit an appropriately detailed resume and a cover letter that includes a description of the applicant's reason for applying. An applicant must state in the application materials that he or she agrees to submit to a pre-appointment tax and criminal background investigation in accordance with Treasury Directive 21-03.

Elaine Buckberg,
Deputy Assistant Secretary for Policy Planning, Economic Policy.

[FR Doc. 2015-03986 Filed 2-23-15; 4:15 pm]

BILLING CODE 4810-35-P